FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th Street and Constitution Avenue NW, Washington, DC 20551-0001, not later than November 26, 2019.

A. Federal Reserve Bank of Richmond (Adam M. Drimer, Assistant Vice President) 701 East Byrd Street, Richmond, Virginia 23219. Comments can also be sent electronically to or Comments.applications@rich.frb.org:

1. The John W. Dwyer CFB Irrevocable Trust, Daniel S. Baird, Baltimore, Maryland, as trustee; to acquire voting shares of Capital Funding Bancorp, Inc., Baltimore, Maryland, and thereby indirectly acquire voting shares of CFG Community Bank, Lutherville, Maryland.

Board of Governors of the Federal Reserve System, November 6, 2019.
Yao-Chin Chao,
Assistant Secretary of the Board.

[FR Doc. 2019-24607 Filed 11-12-19; 8:45 am]

BILLING CODE 6210-01-P